DEPARTMENT OF HEALTH AND HUMAN SERVICES

Announcement of Requirements and Registration for healthfinder.gov Mobile App Challenge

AGENCY: Office of Disease Prevention and Health Promotion, Office of the Assistant Secretary for Health, Office of the Secretary, Department of Health and Human Services.

ACTION: Notice.

SUMMARY: healthfinder.gov is a free, award-winning federal Web site that features reliable, evidence-based, and actionable health information presented in plain language. The site has approximately 1 million visits each month. The prevention and wellness information and resources educate and motivate users to incorporate healthy behaviors into their lives by taking small steps towards improving their health. healthfinder.gov also provides information about U.S. Preventive Services Task Force recommended preventive services, giving the public personalized information and resources about these services. It also offers decision support for all of the clinical preventive services covered by the Affordable Care Act.

The Office of Disease Prevention and Health Promotion (ODPHP) is launching a healthfinder.gov Mobile App Challenge to promote the development of a mobile app that will facilitate the customized use of prevention and wellness information featured on the Web site.

The purpose is to provide a customized tool to reach health consumers where they are making health decisions so that they can improve their health and the health of loved ones.

DATES: Effective on December 6, 2012. Important dates include the following: December 6, 2012: healthfinder App Challenge is announced on www.challenge.gov and opened for submissions on www.health2challenge.org. Health Tech Hatch opens crowd sourcing platform for developers to receive feedback, user testing, and/or support and backing.

February 1, 2013: Deadline for Phase I Submissions.

February 8, 2013: HHS announces top three challenge applicants and launches Phase II.

March 8, 2013: Deadline for Phase II Submissions.

March 17, 2013 (tentative): HHS announces grand prize winner.

ADDRESSES: Participants can register for the Challenge by visiting www.health2challenge.org.

FOR FURTHER INFORMATION CONTACT: Silje Lier, MPH, Communication Advisor, Office of Disease Prevention and Health Promotion, U.S. Department of Health and Human Services. Email Silje.Lier@hhs.gov; phone 240-453-6113.

SUPPLEMENTARY INFORMATION:

Subject of Challenge Competition: healthfinder.gov App Challenge.

Eligibility Rules for Participating in the Competition: To be eligible to win a prize under this challenge, an individual or entity—

(1) Shall have registered to participate in the competition under the rules promulgated by the Department of Health and Human Services (HHS) and Health 2.0;

(2) Shall have complied with all the requirements under this section;

(3) In the case of a private entity, shall be incorporated in and maintain a primary place of business in the United States, and in the case of an individual, whether participating singly or in a group, shall be a citizen or permanent resident of the United States; and

(4) May not be a federal entity or federal employee acting within the scope of their employment.

(5) Shall not be a HHS employee working on their applications or submissions during assigned duty hours.

(6) Shall not be in the reporting chain of the Office of the Assistant Secretary for Health.

(7) Federal grantees may not use federal funds to develop COMPETES Act challenge applications unless consistent with the purpose of their grant award.

(8) Federal contractors may not use federal funds from a contract to develop COMPETES Act challenge applications or to fund efforts in support of a COMPETES Act challenge submission.

(9) Applicants must agree to provide the federal government an irrevocable, royalty-free, non-exclusive worldwide license for one year, given that they are prize winners. HHS has the right to distribute copies, display, create derivative works, and publicly post, link to, and share the work or parts thereof.

An individual or entity shall not be deemed ineligible because the individual or entity used federal facilities or consulted with federal employees during a competition if the facilities and employees are made available to all individuals and entities participating in the competition on an equitable basis.

Challenge participants will be expected to sign a liability release as part of the contest registration process. The liability release will use the following language:

By participating in this competition, I agree to assume any and all risks and waive claims against the federal government and its related entities, except in the case of willing misconduct, for any injury, death, damage, or loss of property, revenue, or profits, whether direct, indirect, or consequential, arising from my participation in this prize contest, whether the injury, death, damage, or loss arises through negligence or otherwise.

Amount of the Prize: The final challenge winner will be provided a monetary cash prize totaling $50,000. The winning solution will be promoted by ODPHP, and will live on healthfinder.gov.

Basis Upon Which Winner Will Be Selected: Challenge submissions will be judged by a panel selected by healthfinder.gov with relevant expertise in health IT, health literacy, and prevention. Winners will be selected based on the following criteria:

1. Usability and Design;

2. Health Literacy Principles;

3. Focus on Prevention and Wellness;

4. Evidence of Co-design with Users;

5. Innovation in Design;

6. Functionality/Accuracy; and

7. healthfinder.gov Look and Feel.

Award Approving Official: Don Wright, Deputy Assistant Secretary for Health, Office of Disease Prevention and Health Promotion.

Additional Information: www.healthfinder.gov contains prevention and wellness information based on health literacy principles. Challenge participants will draw from existing information provided on healthfinder.gov and collaborate directly with health professionals and/or end users to build their application. They will have access to healthfinder.gov's content syndication tool and application programming interface (API). For more information, visit http://healthfinder.gov/contentsyndication.

Dated: November 30, 2012.
Don Wright,
Deputy Assistant Secretary for Health, Office of Disease Prevention and Health Promotion.

[FR Doc. 2012-29520 Filed 12-5-12; 8:45 am]

BILLING CODE 4150-32-P